NUCLEAR REGULATORY COMMISSION

10 CFR Part 72

[NRC-2025-0070]

RIN 3150-AL33

List of Approved Spent Fuel Storage Casks: TN Americas LLC NUHOMS® EOS Dry Spent Fuel Storage System Certificate of Compliance No. 1042, Amendment No. 4

AGENCY: Nuclear Regulatory Commission.

ACTION: Direct final rule; confirmation of effective date.

SUMMARY: The U.S. Nuclear Regulatory Commission (NRC) is confirming the effective date of October 14, 2025, for the direct final rule that was published in the Federal Register on July 29, 2025. The direct final rule amended the TN Americas LLC, NUHOMS® EOS Dry Spent Fuel Storage System listing within the “List of approved spent fuel storage casks” to include Amendment No. 4 to Certificate of Compliance No. 1042.

DATES: The effective date of October 14, 2025, for the direct final rule published July 29, 2025 (90 FR 35589), is confirmed.

ADDRESSES: Please refer to Docket ID NRC-2025-0070 when contacting the NRC about the availability of information for this action. You may obtain publicly available information related to this action by any of the following methods:

• Federal Rulemaking Website: Go to https://www.regulations.gov and search for Docket ID NRC-2025-0070. Address questions about NRC dockets to Helen Chang; telephone: 301-415-3228; email: Helen.Chang@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The Amendment No. 4 of Certificate of Compliance No. 1042, the associated changes to the technical specifications, and the safety evaluation report are available in ADAMS under Package Accession No. ML25078A248.

• NRC's PDR: The PDR, where you may examine and order copies of publicly available documents, is open by appointment. To make an appointment to visit the PDR, please send an email to PDR.Resource@nrc.gov or call 1-800-397-4209 or 301-415-4737, between 8 a.m. and 4 p.m. eastern time, Monday through Friday, except Federal holidays.

FOR FURTHER INFORMATION CONTACT: George Tartal, Office of Nuclear Material Safety and Safeguards, U.S. Nuclear Regulatory Commission, Washington, DC 20555-0001; telephone: 301-415-7150, email: george.tartal@nrc.gov.

SUPPLEMENTARY INFORMATION: On July 29, 2025 (90 FR 35589), the NRC published a direct final rule amending its regulations in part 72 of title 10 of the Code of Federal Regulations to revise the TN Americas LLC, NUHOMS® EOS Dry Spent Fuel Storage System listing in the “List of approved spent fuel storage casks” to include Amendment No. 4 to Certificate of Compliance No. 1042.

In the direct final rule, the NRC stated that if no significant adverse comments were received, the direct final rule would become effective on October 14, 2025. The NRC received and docketed one comment on the companion proposed rule (90 FR 35640; July 29, 2025). An electronic copy of the comment can be obtained from the Federal Rulemaking website at https://www.regulations.gov under Docket ID NRC-2025-0070 and is also available in ADAMS under Accession No. ML25241A013. The NRC evaluated the comment against the criteria described in the direct final rule and determined that the comment was not significant and adverse. Specifically, the comment was outside the scope of this rulemaking. The comment did not raise a relevant issue that was not previously addressed or considered by the NRC. It did not cause the NRC to either reevaluate its position or conduct additional analysis. It did not propose a change or an addition to the rule or cause the NRC to make a change to the rule, the certificate of compliance, or the accompanying technical specifications. Therefore, this direct final rule will become effective as scheduled.

Dated: September 4, 2025.
For the Nuclear Regulatory Commission.
Araceli Billoch Colon,
Chief, Regulatory Analysis and Rulemaking Support Branch, Division of Rulemaking, Environmental, and Financial Support. Office of Nuclear Material Safety and Safeguards.

[FR Doc. 2025-17201 Filed 9-5-25; 8:45 am]

BILLING CODE 7590-01-P